Title 3—

The President

Proclamation 7408 of February 26, 2001

American Red Cross Month, 2001

By the President of the United States of America

A Proclamation

The American Red Cross was founded in 1881 by Clara Barton, a woman selflessly devoted to the needs of humanity. Many of the Red Cross's guiding principles—compassion, courage, character, and civic duty—are timeless ideals shared by the people of the United States.

Chartered and authorized by the Congress to act in times of need, the American Red Cross serves our Nation and the world, providing compassionate assistance to people afflicted by personal, local, national, or international disasters. Every day, millions of Red Cross volunteers and employees follow in Clara Barton's footsteps by providing essential services to people in their communities.

For more than 120 years, Americans have relied on the expertise of the American Red Cross in disaster relief. Last year, the Red Cross helped people during devastating wildfires in New Mexico and Montana and in communities hit by massive ice storms in Nebraska, Arkansas, and across the Midwest. Volunteers respond to an estimated 63,000 disasters each year and help millions of people during trying times of loss. The American Red Cross also saves lives long before tragedy strikes by helping individuals and entire communities learn to prepare for disasters.

The educational information distributed by the American Red Cross helps people feel safe at home, at work, at school, and at play. Last year, the Red Cross trained nearly 12 million people in lifesaving CPR and first aid, in the use of automated external defibrillators (AEDS), on HIV/AIDS education, and in lifeguarding and water safety. Many people also know about the Red Cross because of the organization's blood collection drives. In 2000, more than 6.3 million units of blood were collected from 4 million generous blood donors.

Under its charter, the American Red Cross is entrusted to deliver emergency messages and provide vital services for military members and their families. Staff members deploy with our Armed Forces to provide emergency communications and a caring presence to service men and women separated from their families. Almost 40,000 Red Cross volunteers work at more than 100 military sites here and around the world.

Through the years, the American Red Cross has reached out to people worldwide, preventing and relieving the most desperate cases of human suffering caused by crises abroad. For families in need right now—in more than 50 developing nations—the American Red Cross is helping to establish sanitary and healthy living conditions by creating reliable sources of food and water. The organization's international services save the lives of people threatened by calamities such as epidemics, natural disasters, armed conflict, deadly weather, social strife, or economic collapse.

NOW, THEREFORE, I, GEORGE W. BUSH, President of the United States of America and Honorary Chairman of the American Red Cross, by virtue of the authority vested in me by the Constitution and laws of the United States, do hereby proclaim March 2001 as American Red Cross Month. I request, as my predecessor Franklin Roosevelt did 58 years ago, that each American enlist in the Red Cross “army of mercy”—and give part of themselves to advance this organization's noble humanitarian mission. We have a long way yet to travel, but together, we can save lives. On behalf of a grateful Nation, we applaud and salute the selfless dedication of generations of Red Crossers.

IN WITNESS WHEREOF, I have hereunto set my hand this twenty-sixth day of February, in the year of our Lord two thousand one, and of the Independence of the United States of America the two hundred and twenty-fifth.

B

[FR Doc. 01-5189

Filed 2-28-01; 8:45 am]

Billing code 3195-01-P